DEPARTMENT OF LABOR

Employment and Training Administration

[TA-W-70,783]

T&S Hardwoods, Inc., Sylva, NC; Notice of Negative Determination Regarding Application for Reconsideration

By application dated January 5, 2010, a petitioner requested administrative reconsideration of the Department's negative determination regarding eligibility to apply for Trade Adjustment Assistance (TAA), applicable to workers and former workers of the subject firm. The denial notice was signed on December 9, 2009 and will soon be published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination, based on the finding that imports of hardwood lumber did not contribute to worker separations at the subject facility and there was no shift in production from the subject firm to foreign country during the period under investigation.

The petitioner stated that the workers of the subject firm should be eligible for TAA because the worker separations were caused by “increase in foreign imports, and/or a shift in production and/or services to foreign countries.” The petitioner did not supply any additional facts or documentation to support the allegations.

The initial investigation revealed that worker separations at the subject facility were not caused by increased imports of hardwood lumber into the United States nor by a shift in production of hardwood lumber from the subject facility to a foreign country. T&S Hardwoods, Inc. did not import hardwood lumber and did not shift production abroad. The Department surveyed subject firm's major declining customers regarding their purchases of hardwood lumber in 2007, 2008, January through April 2008 and January through April 2009. The survey revealed no imports of hardwood lumber during the relevant period.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 21st day of January 2010.
Del Min Amy Chen,
Certifying Officer, Division of Trade Adjustment Assistance.

[FR Doc. 2010-3014 Filed 2-12-10; 8:45 am]

BILLING CODE 4510-FN-P